DEPARTMENT OF HOUSING AND URBAN DEVELOPMENT

[Docket No. FR-6177-D-01]

Delegation of Concurrent Authority to the Associate Deputy Secretary

AGENCY: Office of the Secretary, HUD.

ACTION: Notice of delegation of concurrent authority.

SUMMARY: Through this notice, the Secretary of the Department of Housing and Urban Development delegates to the Associate Deputy Secretary concurrent authority, vested in or delegated or assigned to the Secretary of Housing and Urban Development, with the exception of the power to sue and be sued and other exceptions described in section B of this notice.

DATES: August 29, 2019.

FOR FURTHER INFORMATION CONTACT: John B. Shumway, Assistant General Counsel for Administrative Law, Office of General Counsel, Department of Housing and Urban Development, 451 7th Street SW, Room 9262, Washington, DC 20410-0500, telephone number 202-402-5190 (this is not a toll-free number). Individuals with speech or hearing impairments may access this number, toll-free, through TTY by calling 800-877-8339.

SUPPLEMENTARY INFORMATION:

Under section 7(d) of the Department of Housing and Urban Development Act (42 U.S.C. 3535(d)), the Secretary may delegate any of the Secretary's functions, powers, and duties to such officers and employees of the Department as the Secretary may designate, and may authorize successive redelegations of such functions, powers, and duties as determined to be necessary or appropriate. In the delegation of authority published today, the Secretary is delegating to the Associate Deputy Secretary of Housing and Urban Development all the power and authority vested in or delegated or assigned to the Secretary of Housing and Urban Development to be exercised concurrently with the Secretary, with the exception of the power to sue and be sued and other exceptions described in section B of this notice. Accordingly, the Secretary delegates, as follows.

Section A. Authority Delegated

The Associate Deputy Secretary of Housing and Urban Development is hereby authorized, concurrently with the Secretary and the Deputy Secretary, as a senior official performing delegated duties of the Deputy Secretary, to exercise all the power and authority vested in or delegated or assigned to the Secretary of Housing and Urban Development, subject to the exceptions described in section B of this notice.

Section B. Authority Excepted

Excepted from the authority delegated under section A above is the authority to sue and be sued. In addition, the senior official performing delegated duties of the Deputy Secretary is not authorized to exercise the following authorities, which are retained by the Secretary and the Deputy Secretary:

1. Issue a final regulation or Notice of Funding Availability.

2. Approve any statutory or regulatory waiver request that has not been approved previously by an Assistant Secretary or the Deputy Secretary.

3. Approve any statutory or regulatory waiver request that presents novel or unique legal interpretations of statutes or policy.

4. Approve any statutory or regulatory waiver request that relates to ongoing, precedent-setting litigation.

Section C. Authority To Redelegate

The senior official performing delegated duties of the Deputy Secretary is authorized to redelegate to employees of HUD any of the authorities delegated under section A above, subject to the exceptions described in section B.

Section D. Authority Not Superseded

This delegation does not supersede the delegation of concurrent authority from the Secretary to the Deputy Secretary published in the Federal Register at 77 FR 66864.

Authority

Section 7(d), Department of Housing and Urban Development Act (42 U.S.C. 3535(d)).

Dated: August 29, 2019.
Benjamin S. Carson, Sr.,
Secretary.

[FR Doc. 2019-19415 Filed 9-6-19; 8:45 am]

BILLING CODE 4210-67-P